DEPARTMENT OF COMMERCE

National Oceanic and Atmospheric Administration

[I.D. 080803B]

North Pacific Fishery Management Council; Public Meetings

AGENCY: National Marine Fisheries Service (NMFS), National Oceanic and Atmospheric Administration (NOAA), Commerce.

ACTION: Notice of public meetings.

SUMMARY: The North Pacific Fishery Management Council's (Council) Gulf of Alaska (GOA) and Bering Sea/Aleutian Islands (BS/AI) groundfish plan teams will meet in Seattle, WA.

DATES: The meetings will be held on September 8-11, 2003.

ADDRESSES: The meetings will be held at the Alaska Fisheries Science Center, 7600 Sand Point Way N.E., Bldg. 4, Room 2076 (BS/AI Plan Team) and Room 2039 (GOA Plan Team), Seattle, WA.

Council address: North Pacific Fishery Management Council, 605 W. 4th Ave., Suite 306, Anchorage, AK 99501-2252.

FOR FURTHER INFORMATION CONTACT: Jane DiCosimo, North Pacific Fishery Management Council; telephone: 907-271-2809.

SUPPLEMENTARY INFORMATION: The meetings will begin at 1 p.m. on Monday, September 8, and continue through Thursday September 11. The plan teams will review available stock assessments and catch statistics for Gulf of Alaska and Bering Sea/Aleutian Islands groundfish fisheries, review methodology for and adopt overfishing level and available biological catch projections for preliminary 2004 groundfish fisheries, review draft ecosystem chapter, review draft ecosystem assessment chapter, and review other potential Council actions on management on non-target groundfish and the total allowable catch setting process.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Benidxen, 907-271-2809, at least 5 working days prior to the meeting date.

Dated: August 8, 2003.
Richard W. Surdi,
Acting Director, Office of Sustainable Fisheries, National Marine Fisheries Service.

[FR Doc. 03-20918 Filed 8-14-03; 8:45 am]

BILLING CODE 3510-22-S